NUCLEAR REGULATORY COMMISSION

[Docket Nos. STN 50-456, STN 50-457, STN 50-454, STN 50-455, 50-10, 50-237, 50-249, 50-373, 50-374, 50-254, 50-265, 50-295, 50-304]

Commonwealth Edison Company, et al.; Correction to Notice of Consideration of Approval of Application Regarding Proposed Corporate Restructuring and Opportunity for a Hearing

On August 31, 2000, the Federal Register published a notice of consideration of issuance of an order under 10 CFR 50.80 approving the indirect transfer of Facility Operating Licenses Nos. NPF-72 and NPF-77 for Braidwood Station, Units 1 and 2; NPF-37 and NPF-66 for Byron Station, Units 1 and 2; DPR-2, DPR-19 and DPR-25 for Dresden Nuclear Power Station, Units 1, 2 and 3; DPR-29 and DPR-30 for Quad Cities Nuclear Power Station, Units 1 and 2; and DPR-39 and DPR-48 for Zion Nuclear Power Station, Units 1 and 2, currently held by Commonwealth Edison Company (ComEd), as the owner and licensed operator. On pages 53043, column 1; 53044, column 1; 53039, column 2; 53040, column 2; 53041, column 2; and 53042, column 1, the following sentence is corrected to read: “By September 20, 2000, any person whose interest may be affected by the Commission's action on the application may request a hearing and, if not the applicant, may petition for leave to intervene in a hearing proceeding on the Commission's action.”

Dated at Rockville, Maryland, this 8th day of September 2000.
For the Nuclear Regulatory Commission.
Donna M. Skay,
Project Manager, Section 2, Project Directorate III, Division of Licensing Project Management, Office of Nuclear Reactor Regulation.

[FR Doc. 00-23609 Filed 9-13-00; 8:45 am]

BILLING CODE 7590-01-P